DEPARTMENT OF THE INTERIOR

National Park Service

National Register of Historic Places; Notification of Pending Nominations

Nominations for the following properties being considered for listing in the National Register were received by the National Park Service before November 24, 2001. Pursuant to section 60.13 of 36 CFR part 60 written comments concerning the significance of these properties under the National Register criteria for evaluation may be forwarded by United States Postal Service, to the National Register of Historic Places, National Park Service, 1849 C St. NW., NC400, Washington, DC 20240; by all other carriers, National Register of Historic Places, National Park Service, 800 N. Capitol St. NW., Suite 400, Washington DC 20002; or by fax, 202-343-1836 . Written or faxed comments should be submitted by December 24, 2001.

Carol D. Shull,
Keeper of the National Register Of Historic Places.

ALABAMA

Baldwin County

State Bank Silverhill, 15950 Silverhill Ave., Silverhill, 01001410

Lee County

Northside Historic District, Roughly Bounded by 7th Ave., 3rd St., 2nd Ave., and N. 11th St., Opelika, 01001409

Madison County

Alabama Agricultural and Mechanical University Historic District, Chase Rd., Normal, 01001407

Montgomery County

Stone Plantation, 5001 Old Selma Rd., Montgomery, 01001411

Shelby County

McKibbon House, 611 E. Boundary St., Montevallo, 01001408

CONNECTICUT

Litchfield County

Terryville Waterwheel, 262 Main St., Plymouth, 01001412

FLORIDA

Leon County

Rollins House, 5456 Rollins Pointe, Tallahassee, 01001415

Polk County

Downtown Winter Haven Historic District, (Winter Haven, Florida MPS) Roughly Avenue A NW, Avenue A SW, 3rd and 5th Sts., Winter Haven, 01001414

MAINE

Androscoggin County

Gay—Munroe House, 64 Highland Ave., Auburn, 01001422

Cumberland County

Hanson, Asa, Block, 548-550 Congress St., Portland, 01001418

Tarr—Eaton House, 906 Harpswell Neck Rd., Harpswell Center, 01001416

Kennebec County

Capitol Complex Historic District, State and Capitol Sts., Augusta, 01001417

Knox County

Union Town House (Former), 128 Town House Rd., Union, 01001419

Sagadahoc County

Ropes End, 36 Hyde Rd., Phippsburg, 01001421

York County

Cummings Shoe Factory, 2 Railroad Ave., South Berwick, 01001420

MISSOURI

Jackson County

West Ninth Street—Baltimore Avenue Historic District (Boundary Increase I), West 100 blk. of 10th St. and 1000 blk. of Baltimore Ave.,Kansas City, 01001413

NORTH CAROLINA

Alamance County

South Broad—East Fifth Streets Historic District, (Burlington MRA)Roughly bounded by E. Morehead, S. Broad, Sixth, and W. Main Sts., Burlington, 01001427

Buncombe County

Kenilworth Inn, 60 Caledonia Rd., Asheville, 01001423

Cleveland County

Sperling, George, House and Outbuildings, 1219 Fallston Rd., Shelby, 01001425

Duplin County

Loftin Farm (Duplin County MPS), NC 1368, 0.65 mi. S of jct. with NC 1367, Beautancus, 01001426

Henderson County

West Side Historic District (Hendersonville MPS) Roughly bounded by Fifth Ave. W., Washington St., Third Ave. W., and Blythe St., Hendersonville, 01001424

OREGON

Josephine County

Allen Gulch Mill (Upper Illinois Valley, Oregon Mining Resources MPS) Approx. 1 mi. SE of Jct. of Waldo Rd. and Waldo Lookout Rd., Cave Junction, 01001148

Allen Gulch Townsite (Upper Illinois Valley, Oregon Mining Resources MPS) Approx. 1 mi. SE. of Jct. of Waldo Rd. and Waldo Lookout Rd., Cave Junction, 01001136

Cameron Mine (Upper Illinois Valley, Oregon Mining Resources MPS) Approx. 2 mi. S. of Jct. of Waldo Rd. and Waldo Lookout Rd., Cave Junction, 01001144

Deep Gravel Mine (Upper Illinois Valley, Oregon Mining Resources MPS) Approx. 1 mi. N. of Jct of Waldo Rd. and BLM Rd. 40-8-28, Cave Junction, 01001141

Esterly Pit No. 2—Llano De Oro Mine (Upper Illinois Valley, Oregon Mining Resources MPS) Approx. 1.5 mi. N. of Jct. of Waldo Rd. and BLM Rd. 40-8-28,Cave Junction, 01001145

Fry Gulch Mine (Upper Illinois Valley, Oregon Mining Resources MPS) Approx. .75 mi. from Jct. of Waldo Rd. and BLM Rd. 40-8-28, Cave Junction, 01001143

High Gravel Mine (Upper Illinois Valley, Oregon Mining Resources MPS) Approx. 1.3 mi. S. of Jct. of Waldo Rd. and Waldo Lookout Rd., Cave Junction, 01001142

Logan Cut (Upper Illinois Valley, Oregon Mining Resources MPS) Historic Channel of Logan Cut, Cave Junction, 01001154

Logan Drain Ditches (Upper Illinois Valley, Oregon Mining Resources MPS) Approx. 2 mi. N. of Jct. of Waldo Rd. and BLM Rd. 40-8-28, Cave Junction, 01001155

Logan Wash Ditch (Upper Illinois Valley, Oregon Mining Resources MPS) Historic Channel of Logan Wash Ditch, Cave Junction, 01001153

Middle Ditch (Upper Illinois Valley, Oregon Mining Resources MPS) Historic Channel of Logan-Esterly Middle Ditch, Cave Junction, 01001150

Old Placer Mine (Upper Illinois Valley, Oregon Mining Resources MPS) Approx. .65 mi. W. of Jct. of Rockydale Rd. and BLM Rd. 40-8-15, Cave Junction, 01001140

Osgood Ditch (Upper Illinois Valley, Oregon Mining Resources MPS) Historic Channel of Osgood Ditch, Cave Junction, 01001151

Plataurica Mine (Upper Illinois Valley, Oregon Mining Resources MPS) Approx. .75 mi. SE. of Jct. of Waldo Rd. and Waldo Lookout Rd., Cave Junction, 01001146

St. Patrick's Roman Catholic Cemetery (Upper Illinois Valley, Oregon Mining Resources MPS) Approx. 1 mi. SE. of Jct. of Waldo Rd. and Waldo Lookout Rd., Cave Junction, 01001137

Upper Ditch (Upper Illinois Valley, Oregon Mining Resources MPS) Historic Channel of Logan-Esterly Upper Ditch, Cave Junction, 01001149

Waldo Cemetery (Upper Illinois Valley, Oregon Mining Resources MPS) Approx. .5 mi. SW. of Jct. of Waldo Rd. and BLM Rd. 40-8-28, Cave Junction, 01001138

Waldo Chinese Cemetery (Upper Illinois Valley, Oregon Mining Resources MPS) Approx. .5 mi. SW. of Jct. of Waldo Rd. and BLM Rd. 40-8-28, Cave Junction, 01001139

Waldo Mine (Upper Illinois Valley, Oregon Mining Resources MPS) SW. of Jct. of Waldo Rd. and BLM Rd. 40-8-28, Cave Junction, 01001147

Wimer Ditch (Upper Illinois Valley, Oregon Mining Resources MPS) Historic Channel of Wimer Ditch, Cave Junction, 01001152

WYOMING

Teton County

Flat Creek Ranch, Approx. 12 mi. E and N, Jackson, 01001428

To assist in preservation of the following resource the comment period has been shortened to seven (7) days:

MASSACHUSETTS

Barnstable County

Old Village Historic District, Roughly bounded by Main, Holway, Bridge Sts., Bearse's Ln., Chatham Harbor, Mill Pond, and Little Mill Pond, Chatham, 01001406.

[FR Doc. 01-30335 Filed 12-6-01; 8:45 am]

BILLING CODE 4310-70-P